NUCLEAR REGULATORY COMMISSION

[Docket No. 72-1051; NRC-2018-0052]

Holtec International HI-STORE Consolidated Interim Storage Facility Project

AGENCY: Nuclear Regulatory Commission.

ACTION: Draft environmental impact statement; public comment meetings.

SUMMARY: On March 20, 2020, the U.S. Nuclear Regulatory Commission (NRC) published in the Federal Register a notice issuing the draft Environmental Impact Statement (EIS) for Holtec International's (Holtec's) application to construct and operate a consolidated interim storage facility (CISF) for spent nuclear fuel and Greater-Than Class C waste, along with a small quantity of mixed oxide fuel. The NRC is announcing four public comment webinars to receive comments on the draft report. The meetings will allow interested members of the public to submit their comments.

DATES: The NRC staff will hold webinars on August 20, 2020, August 25, 2020, August 26, 2020, and September 2, 2020. The staff will present the findings of the draft report and will receive public comments during transcribed public meetings. Members of the public are invited to submit comments by September 22, 2020. Comments received after this date will be considered if it is practical to do so, but the NRC is able to ensure consideration only for comments received on or before this date.

ADDRESSES: You may submit comments by any of the following methods:

• Federal Rulemaking website: Go to https://www.regulations.gov/ and search for Docket ID NRC-2018-0052. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, ATTN: Program Management, Announcements and Editing Staff, U.S. Nuclear Regulatory Commission, Washington, DC 20555-0001.

• Email comments to: Holtec-CISFEIS@nrc.gov.

For additional direction on obtaining information and submitting comments, see “Obtaining Information and Submitting Comments” in the SUPPLEMENTARY INFORMATION SECTION of this document.

FOR FURTHER INFORMATION CONTACT: Jill Caverly, Office of Nuclear Material Safety and Safeguards, U.S. Nuclear Regulatory Commission, Washington DC, 20555-0001; telephone: 301-415-7674; email: Jill.Caverly@nrc.gov.

SUPPLEMENTARY INFORMATION:

I. Obtaining Information and Submitting Comments

A. Obtaining Information

Please refer to Docket ID NRC-2018-0052 when contacting the NRC about the availability of information regarding this document. You may obtain publicly-available information related to this action by the following methods:

• Federal Rulemaking Website: Go to https://www.regulations.gov and search for Docket ID NRC-2018-0052.

• NRC's Agencywide Documents Access and Management System (ADAMS): You may obtain publicly-available documents online in the ADAMS Public Documents collection at https://www.nrc.gov/reading-rm/adams.html. To begin the search, select “Begin Web-based ADAMS Search.” The draft EIS can be found by searching for ADAMS Accession No. ML20069G420. For problems with ADAMS, please contact the NRC's Public Document Room reference staff at 1-800-397-4209, 301-415-4737, or by email to pdr.resource@nrc.gov.

• Project web page: Information related to the Holtec HI-STORE CISF project can be accessed on the NRC's Holtec HI-STORE CISF web page at https://www.nrc.gov/waste/spent-fuel-storage/cis/holtec-international.html. Scroll down to Environmental Impact Statement, Draft Report for Comment.

• Public Libraries: A copy of the staff's draft EIS can be accessed at the following public libraries (library access and hours are determined by local policy):

• Carlsbad Public Library, 101 S Halagueno Street, Carlsbad, NM 88220

• Hobbs Public Library, 509 N Shipp St., Hobbs, NM 88240

• Roswell Public Library, 301 N Pennsylvania, Roswell, NM 88201

B. Submitting Comments

Please include Docket ID NRC-2018-0052 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Meeting Information

On March 20, 2020, the NRC published in the Federal Register (85 FR 16150), the availability of a draft EIS for Holtec's proposed CISF for spent nuclear fuel and requested public comments on the draft report. The NRC is announcing that staff will hold four public webinars. The webinars will be held online at the webinar address for video of the staff's presentation and all audio will be through the telephone line. The telephone line will also be for members of the public to submit comments. A court reporter will be recording all comments received during the webinar. The dates and times for the public webinars follow:

Meeting | Date | Time | Webinar information
Public Webinar | August 20, 2020 | 6:00 p.m.-9:00 p.m. (ET) | Webinar (video):
|  | 4:00 p.m.-7:00 p.m. (MT) | Event address: https://usnrc.webex.com/.
|  |  | Event number: 199 831 2299.
|  |  | Event password: HOLTEC.
|  |  | Telephone access (audio):
|  |  | Phone number: 888-566-6509.
|  |  | Passcode: 1904459.
Public Webinar | August 25, 2020 | 2:00 p.m.-5:00 p.m. (ET) | Webinar (video):
|  | 12:00 noon-3:00 p.m. (MT) | Event address: https://usnrc.webex.com/.
|  |  | Event number: 199 973 2733.
|  |  | Event password: HOLTEC.
|  |  | Telephone access: (audio)
|  |  | Phone number: 1-888-566-6509.
|  |  | Passcode: 1904459.
Public Webinar | August 26, 2020 | 6:00 p.m.-9:00 p.m. (ET) | Webinar (video):
|  | 4:00 p.m.-7:00 p.m. (MT) | Event address: https://usnrc.webex.com/.
|  |  | Event number: 199 278 6216.
|  |  | Event password: HOLTEC.
|  |  | Telephone access: (audio):
|  |  | Phone number: 888-566-6509.
|  |  | Passcode: 1904459.
Public Webinar | September 2, 2020 | 11:00 a.m.-2:00 p.m. (ET) | Webinar (video):
|  | 9:00 a.m.-12 noon (MT). | Event address: https://usnrc.webex.com/. Event number: 199 183 5099. Event password: HOLTEC. Telephone access (audio): Phone number: 888-566-6509. Passcode: 1904459.

Persons interested in attending these meeting should check the NRC's Public Meeting Schedule web page at https://www.nrc.gov/pmns/mtg for additional information, agendas for the meetings, and access information for the webinar.

Dated: August 6, 2020.
For the Nuclear Regulatory Commission.
Jessie M. Quintero,
Acting Chief, Environmental Review Materials Branch, Division of Rulemaking, Environmental and Financial Support, Office of Nuclear Material Safety, and Safeguards.

[FR Doc. 2020-17536 Filed 8-12-20; 8:45 am]

BILLING CODE 7590-01-P